DEPARTMENT OF THE INTERIOR

Bureau of Land Management

[LLUTG01100-09-L13100000-EJ0000]

Notice of Availability of a Draft Environmental Impact Statement for the Greater Natural Buttes Area Gas Development Project, Uintah County, UT

AGENCY: Bureau of Land Management, Interior.

ACTION: Notice of availability.

SUMMARY: Under the National Environmental Policy Act (NEPA), the Federal Land Policy and Management Act of 1976 (FLPMA) and associated regulations, the Bureau of Land Management (BLM) has prepared a Draft Environmental Impact Statement (EIS) that evaluates, analyzes, and discloses to the public direct, indirect, and cumulative environmental impacts of a proposal to develop natural gas in Uintah County, Utah. This notice announces a 45-day public comment period to meet the requirements of the NEPA and Section 106 of the National Historic Preservation Act.

DATES: The Draft EIS will be available for public review for 45 calendar days following the date that the Environmental Protection Agency publishes its Notice of Availability in the Federal Register. The BLM can best use comments and resource information submitted within this 45-day review period. A public meeting will be held during the 45-day public comment period in Vernal, Utah. The date, time, and place will be announced at least 15 days prior to the meeting date through local news media and the BLM Web site http://www.blm.gov/ut/st/en/info/newsroom.2.html.

ADDRESSES: Comments on the Draft EIS may be submitted by any of the following methods:

• Mail: Bureau of Land Management, Attn: Stephanie Howard, Vernal Field Office, 170 South 500 East, Vernal, Utah 84078.

• E-mail: UT_Vernal_Comments@blm.gov.

• Fax: (435) 781-4410.

Please reference the Greater Natural Buttes EIS when submitting your comments. Comments and information submitted on the Draft EIS for the Greater Natural Buttes project, including names, e-mail addresses, and street addresses of respondents will be available for public review at the Vernal Field Office. The BLM will not accept anonymous comments. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Stephanie Howard, Project Manager, BLM Vernal Field Office, 170 South 500 East, Vernal, Utah, 84078; telephone, 435-781-4400.

SUPPLEMENTARY INFORMATION: The Draft EIS is located online at http://www.blm.gov/ut/st/en/fo/vernal/planning/nepa_.html. In response to a proposal submitted by Kerr-McGee Oil & Gas Onshore LP (KMG), a wholly-owned subsidiary of Anadarko Petroleum Corporation, the BLM published in the October 5, 2007 Federal Register, a Notice of Intent (NOI) to prepare an EIS. The Greater Natural Buttes Project Area (GNBPA) encompasses approximately 162,911 acres in an existing gas producing area located in Township 8 South, Ranges 20 through 23 East; Township 9 South, Ranges 20 through 24 East; Township 10 South, Ranges 20 through 23 East; and Township 11 South, Ranges 21 and 22 East (Salt Lake Meridian) in Uintah County, Utah. The Draft EIS analyzes a proposal by KMG to develop Federal natural gas resources on their leases. The Proposed Action includes drilling up to 3,675 new gas wells and constructing associated ancillary transportation, transmission, and water disposal facilities within the GNBPA over a 10-year period. Of the 162,911 acres within the GNBPA, approximately 54 percent is on Federal lands administered by the BLM; 24 percent is on lands held in trust for the Ute Tribe; 20 percent is owned by the State of Utah and administered by the Utah State School and Institutional Trust Lands Administration; and 2 percent is privately owned. The productive life of each well is estimated to be approximately 30 to 50 years, with most drilling and development activities to occur within the first 10 years following approval of the BLM's Record of Decision.

The new gas wells would be drilled as infill to productive formations, including but not limited to, the Green River Formation, Wasatch Formation, Mesaverde Group (including the Blackhawk Formation), Mancos Shale, and Dakota Sandstone. Target depths would range from approximately 2,000 to 16,000 feet. Infill drilling would be performed on 40-acre and 20-acre surface spacing throughout the GNBPA, which is equivalent to a density of 16 to 32 surface well pads per section (or square mile). The Proposed Action and alternatives incorporate best management practices for oil and gas development and other measures necessary to address impacts to transportation, public safety, cultural resources, recreational opportunities, wildlife, threatened and endangered species, visual resources, air quality, wilderness characteristics, and other relevant issues.

The Draft EIS describes and analyzes the impacts of KMG's Proposed Action and three alternatives, including the No Action Alternative. Additional alternatives were considered but eliminated from detailed analysis. The following is a summary of the alternatives:

1. No Action Alternative—Drilling and completion of development wells and infrastructure would continue as described in previously approved NEPA decision documents and the proposed natural gas development on BLM lands as described in the Proposed Action would not be implemented. Activity under this alternative includes facilities disclosed through other NEPA decision documents or approved by other agencies but not yet constructed as of October 2007. Based on the foregoing documents and a review of information from Utah Division of Oil Gas and Mining, the BLM has estimated that, as of October 2007, 1,102 wells remain to be drilled in addition to the 1,562 existing wells, producing or shut in, awaiting pipeline connection in the GNBPA. In all, this would account for approximately 4,702 acres of new disturbance, or 2.9 percent of the total GNBPA, including consideration for construction of roads, pipelines, and additional support facilities.

2. Proposed Action—Up to 3,675 new gas wells would be drilled over a period of 10 years. Additionally, approximately 760 miles of new roads, 820 miles of buried pipelines, 587 miles of surface pipelines, 7 miles of electrical power lines, 2 mancamps, 2 compressor stations, and water disposal facilities would be constructed to support this proposed development. Total new surface disturbance under the Proposed Action would be approximately 12,658 acres, or 7.8 percent of the total GNBPA.

3. Resource Protection Alternative (Agency Preferred Alternative)—Like the Proposed Action, this alternative would include up to 3,675 new wellbores in addition to the existing producing wells and approved/permitted wells yet to be drilled in the GNBPA. However, this alternative places a limit on the maximum number of new well pad locations to 1 pad per 40 acres (maximum of 16 well pads per section) by using directional drilling technology to drill multiple wells from a single pad where technologically and economically feasible. The drilling rate would be the same as described for the Proposed Action. Approximately 594 miles of new roads, 654 miles of buried pipelines, and 458 miles of surface pipelines would be constructed to support this alternative. Disturbance associated with the construction of other support facilities would be the same as those described for the Proposed Action. The reduced number of well pads, miles of roads, and miles of pipelines proposed under this alternative would limit impacts associated with surface disturbance, particularly in sensitive areas, including non-WSA lands with wilderness characteristics and areas identified as potential habitat for threatened and endangered species. Total new surface disturbance under the Resource Protection Alternative would be approximately 8,147 acres, or 5.0 percent of the total GNBPA.

4. Optimal Recovery Alternative—This alternative is designed to maximize recovery of the gas resources by increasing the number of wellbores to achieve 10-acre surface and downhole spacing throughout the GNBPA. Up to 13,446 new wellbores would be drilled in addition to the existing producing wells and approved/permitted wells yet to be drilled in the GNBPA. Additional wells would be drilled at an average rate of approximately 672 wells per year using 28 drilling rigs and would be drilled over a period of approximately 20 years or until the resource base is fully developed. The construction of additional new roads, pipelines, and other support facilities would be similar to those described in the Proposed Action, but in some cases more facilities would be needed because of the higher number of wells and increased gas volumes produced. Total new surface disturbance under the Optimal Recovery Alternative would be approximately 42,620 acres, or 26 percent of the total GNBPA.

5. Alternatives Considered, but Eliminated from Further Analysis—The BLM considered two alternatives to the proposed project that were not carried forward for detailed analysis. These include a No Further Development Alternative under which no further development would take place in the GNBPA, and a Phased Development Alternative, which was intended to rotate concentrated disturbance activities through smaller, pre-defined areas (subareas), while the remainder of the GNBPA would be less impacted than under the Proposed Action. Under this alternative, oil and gas development activities would be restricted to one of several subareas within the GNBPA boundary. One subarea at a time would be opened to oil and gas construction and development activities for a limited time period, after which construction and development activities would cease. An indicator, such as successful interim reclamation within a subarea, would be required prior to developing a new subarea. Oil and gas extraction and processing would continue (i.e., operational activities) in the subarea, while construction and development activities would move to another subarea. An additional intent is to encourage concurrent and efficient reclamation of surface disturbance. The No Further Development Alternative was eliminated from detailed analysis because ongoing oil and gas development continues on valid leases within the GNBPA as disclosed under existing NEPA decision documents, which are not being revisited under this EIS. The Phased Development Alternative was eliminated from further analysis because: (a) Phased development could not be imposed by the BLM on state, tribal, or private lands within the GNBPA; (b) the BLM would still be required to process reasonable access ROW applications for development of private and state leases within the subareas not currently being developed (BLM Manual, Part 2800.06 “Policy” [D]), allowing owners to develop for the reasonable use and enjoyment non-Federal lands surrounded by public lands managed under FLPMA; (c) phased development could delay benefits to surface owners within the GNBPA (e.g., payments to the Ute Tribe for surface disturbance activities); (d) phased development would concentrate traffic and drilling activities to the active subarea, but production and maintenance activities in the existing field would continue regardless of subarea; (e) under phased development, operators would be unable to return to subareas where construction and development activity has ceased, which would prevent redevelopment of a subarea in the event of a change in commodity price or an improvement in drilling technology; and, (f) concentrated development under a Phased Development Alternative would focus surface disturbance impacts in individual grazing allotments, which could result in rapid reduction in forage and a corresponding reduction in animal unit months (AUMs).

The public is encouraged to comment on any of these alternatives. The BLM asks that those submitting comments make them as specific as possible with reference to chapters, page numbers, and paragraphs in the Draft EIS document. Comments that contain only opinions or preferences will not receive a formal response; however, they will be considered, and included, as part of the BLM decision-making process. The most useful comments will contain new technical or scientific information, identify data gaps in the impact analysis, or provide technical or scientific rationale for opinions or preferences.

Selma Sierra,
State Director.

[FR Doc. 2010-17268 Filed 7-15-10; 8:45 am]

BILLING CODE 4310-DQ-P